FEDERAL COMMUNICATIONS COMMISSION

[DA 17-1086]

Temporary Lift of Filing Freeze on Full Power and Class A Minor Modification Applications That Expand a Station's Contour

AGENCY: Federal Communications Commission.

ACTION: Notice.

SUMMARY: This document announces that the Media Bureau is temporarily lifting the freeze on filing minor modification applications that expand the contour of full power and Class A stations, from Tuesday, November 28 through Thursday, December 7, 2017.

DATES: November 21, 2017.

FOR FURTHER INFORMATION CONTACT: Joyce Bernstein, Joyce.Bernstein@fcc.gov, or Kevin Harding, Kevin.Harding@fcc.gov, Video Division, Media Bureau, Federal Communications Commission.

SUPPLEMENTARY INFORMATION:

On April 5, 2013, in light of the then forthcoming broadcast incentive auction, the Media Bureau issued its April 2013 Freeze Public Notice announcing that it would not accept for filing minor modification applications for changes to existing television service areas that would increase a full power television station's noise-limited contour or a Class A station's protected contour beyond the area resulting from the station's authorized facilities as of that date, and would not process pending applications at variance with these limitations. Auction 1000, which was conducted pursuant to Title VI of the Middle Class Tax Relief and Job Creation Act of 2012, was completed on April 13, 2017, and stations that were assigned new channels in connection with the auction have had an opportunity to file for alternate channels and/or expanded facilities.

The Media Bureau is temporarily lifting the limitations imposed by the April 2013 Freeze Public Notice for full power and Class A stations that were not assigned a new channel, beginning on Tuesday, November 28, 2017. The freeze will be reimposed at 11:59 p.m. EST on Thursday, December 7, 2017. The Media Bureau will also process minor modification applications at variance with the freeze limitations that have been pending since April 5, 2013.

Applications submitted during this time period will be processed on a first come/first served basis. Applications proposing to change a station's channel will not be accepted for filing.

Federal Communications Commission.
Barbara Kreisman,
Chief, Video Division, Media Bureau.

[FR Doc. 2017-25170 Filed 11-20-17; 8:45 am]

BILLING CODE 6712-01-P